DEPARTMENT OF COMMERCE

National Oceanic and Atmospheric Administration

RIN 0648-XC130

Mid-Atlantic Fishery Management Council (MAFMC); Public Meetings

AGENCY: National Marine Fisheries Service (NMFS), National Oceanic and Atmospheric Administration (NOAA), Commerce.

ACTION: Notice of public meetings.

SUMMARY: The Mid-Atlantic Fishery Management Council (Council) and its Strategic Planning Working Group, its Ecosystem and Ocean Planning Committee, and its Executive Committee will hold public meetings.

DATES: The meetings will be held Monday, August 13, 2012 through Thursday, August 16, 2012. See SUPPLEMENTARY INFORMATION for specific dates and times.

ADDRESSES: The meetings will be held at the Courtyard Philadelphia Downtown, 21 N. Juniper Street, Philadelphia, PA; telephone: (215) 496-3200.

Council address: Mid-Atlantic Fishery Management Council, 800 N. State St., Suite 201, Dover, DE 19901; telephone: (302) 674-2331.

FOR FURTHER INFORMATION CONTACT: Christopher M. Moore, Ph.D., Executive Director, Mid-Atlantic Fishery Management Council; telephone: (302) 526-5255.

SUPPLEMENTARY INFORMATION:

Monday, August 13, 2012

9 a.m. until 5 p.m.—The Visioning and Strategic Planning Working Group will meet.

Tuesday, August 14, 2012

9 a.m. until 11 a.m.—The Ecosystem and Ocean Planning Committee will meet.

11 a.m. until noon—The Executive Committee will meet.

1 p.m.—The Council will convene.

1 p.m. until 1:15 p.m.—Swearing in of new and reappointed Council members and the election of Council officers will be held.

1:15 p.m. until 3 p.m.—Special Management Zone (SMZ) consideration for Delaware reefs will be held.

3 p.m. until 5 p.m.—A Scup Allocation Report will be held.

5 p.m. until 6 p.m.—There will be a Public Listening Session.

Wednesday, August 15, 2012

9 a.m. until 3 p.m.—The Council will finalize Summer Flounder, Scup, and Black Sea Bass.

3 p.m. until 4 p.m.—The Council will discuss Amendment 17 to the Summer Flounder, Scup, and Black Sea Bass Fishery Management Plan (FMP).

4 p.m. until 5 p.m.—The Council will finalize bluefish management measures for 2013 in conjunction with the Atlantic States Marine Fisheries Board.

Thursday, August 16, 2012

8 a.m. until 9:30 a.m.—Research Set-Aside (RSA) proposals and 2013 priorities will be discussed.

9:30 a.m. until 10 a.m.—National Standard 1 guidelines will be discussed.

10 a.m. until 10:30 a.m.—Amendment 3 to Spiny Dogfish will be discussed.

10:30 a.m. until 11 a.m.—There will be a NEFSC Strategic planning Presentation by Dr. Russell Brown.

11 a.m. until 1 p.m.—The Council will hold its regular Business Session to approve the April and June 2012 minutes, the New England and South Atlantic Council reports, receive Organizational Reports, Executive Director's Report, Science Report, Committee Reports, and conduct any continuing and/or new business.

Agenda items by day for the Council's Committees and the Council itself are:

On Monday, August 13, 2012—The Visioning and Strategic Planning Working Group (facilitated by Adam R. Saslow, Senior Facilitator at RESOLVE) will discuss the desired outcomes and timelines from the Strategic Planning Working Group, review themes and recommendations from stakeholder input (“Visioning”) report, identify core values and develop a draft Vision Statement, discuss alignment of the Council's core values and Vision with the requirements of the Magnuson-Stevens Act (MSA), and analyze and document internal strengths and weaknesses as well as external opportunities and obstacles to the Council's efforts.

On Tuesday, August 14—The Ecosystem and Ocean Planning Committee will discuss initiation of a Deep Sea Corals Amendment and a Memorandum of Understanding with the New England and South Atlantic Councils. The Executive Committee will provide a status update on Ecosystem-Based Fishery Management (EBFM). The Council will swear in new and reappointed Council members and elect Council Officers. The Council will review a report of the SMZ Monitoring Team and develop recommendations. There will be a presentation on the project to evaluate scup allocation. During the Public Listening Session there will be a presentation on the MAFMC Strategic Planning—Objective, Process, and Possible Outcomes and an introduction to the new Regional Administrator, John Bullard, of the Northeast Regional Office of NMFS.

On Wednesday, August 15—The Council in conjunction with the ASMFC's Summer Flounder, Scup, and Black Sea Bass Board will review the Scientific and Statistical Committee (SSC) and the associated Monitoring Committee's specification recommendations for 2013-15 and adopt 2013-15 commercial and recreational harvest levels and commercial management measures for summer flounder, scup, and black sea bass. The Council will review and approve Amendment 17 Public Hearing Document to the Summer Flounder, Scup, and Black Sea Bass FMP. The Council in conjunction with the ASMFC's Bluefish Board will review the SSC and the Bluefish Monitoring Committees' specification recommendations regarding the 2013-15 harvest levels and associated management measures and adopt recommendations for harvest levels and associated management measures for 2013-15.

On Thursday, August 16—The Council will review and adopt proposed changes to the RSA Program and finalize the RSA and Information Research and Information Priorities List for 2013 request for proposals. The Council will review/revise the NMFS proposal regarding National Standard 1 Guidelines. The Council will review and approve the public hearing document of Amendment 3 to Spiny Dogfish. The Council will receive a NEFSC Strategic Planning presentation by Dr. Russell Brown. The Council will hold its regular Business Session to approve the April and June 2012 minutes, receive Liaison Reports, receive Organizational Reports to include discussion regarding the development of sub-Annual Catch Limits (ACL) for windowpane flounder, the Executive Director's Report, the Science Report, Committee Reports, and conduct any continuing and/or new business.

Although non-emergency issues not contained in this agenda may come before this group for discussion, those issues may not be the subject of formal action during these meetings. Action will be restricted to those issues specifically listed in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aid should be directed to M. Jan Saunders (302) 526-5251 at least 5 days prior to the meeting date.

Dated: July 24, 2012.
Tracey L. Thompson,
Acting Deputy Director, Office of Sustainable Fisheries, National Marine Fisheries Service.

[FR Doc. 2012-18341 Filed 7-26-12; 8:45 am]

BILLING CODE 3510-22-P